DEPARTMENT OF TRANSPORTATION

National Highway Traffic Safety Administration

Reports, Forms and Recordkeeping Requirements; Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below regarding motorcycles helmet labels has been forwarded to the Office of Management and Budget (OMB) for review and comment. The ICR describes the nature of the information collections and their expected burden. The Federal Register Notice with a 60-day comment period was published on March 30, 2011 (76 FR 17746). The docket number is NHTSA-2011-0045. No comments were received.

DATES: Comments must be submitted on or before August 12, 2011.

FOR FURTHER INFORMATION CONTACT: Ms. Shashi Kuppa at U.S. Department of Transportation, NHTSA, 1200 New Jersey Avenue, SE., West Building Room W43-313, NVS-113, Washington, DC 20590. Ms. Shashi Kuppa's telephone number is (202) 366-3827 and fax number is (202) 366-7002.

SUPPLEMENTARY INFORMATION:

National Highway Traffic Safety Administration

Title: 49 CFR 571.218, Motorcycle Helmets (Labeling).

OMB Control Number: 2127-0518.

Type of Request: Extension of a currently approved collection.

Abstract: The National Traffic Vehicle Safety statute at 49 U.S.C. subchapter II standards and compliance, sections 30111 and 30117, authorizes the issuance of Federal motor vehicle safety standards (FMVSS). The Secretary is authorized to issue, amend, and revoke such rules and regulations as he/she deems necessary. The Secretary is also authorized to require manufacturers to provide information to first purchasers of motor vehicles or motor vehicle equipment when the vehicle equipment is purchased, in the form of printed matter placed in the vehicle or attached to the motor vehicle or motor vehicle equipment.

Using this authority, the agency issued the initial FMVSS No. 218, “Motorcycle helmets,” in 1974. Motorcycle helmets are devices used to protect motorcyclists from head injury in motor vehicle crashes. FMVSS No. 218 S5.6 requires that each helmet shall be labeled permanently and legibly in a manner such that the label(s) can be read easily without removing padding or any other permanent part.

Affected Public: Motorcycle helmet manufacturers.

Estimated Burden Hours: 5,000 hours.

ADDRESSES: Send comments, within 30 days, to the Office of Information and Regulatory Affairs, Office of Management and Budget, 725 17th Street, NW., Washington, DC 20503. Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. Comments to OMB are most effective if received by OMB within 30 days of publication.

Issued on: July 7, 2011.
Christopher J. Bonanti,
Associate Administrator for Rulemaking.

[FR Doc. 2011-17643 Filed 7-12-11; 8:45 am]

BILLING CODE 4910-59-P